FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Best Global Logistics USA, Inc. dba Siam Intercargo Services (NVO & OFF), 1207 West Mahalo Place, Suite 100, Compton, CA 90220, Officers:Tai-Chuen (Larry) Che, Vice President (QI), Wing-Ham Chu, Director, Application Type: Delete Trade Name Siam Intercargo Services/QI Change.

Carmichael International Service dba C.I. Container Line (NVO & OFF), 533 Glendale Blvd., Los Angeles, CA 90026, Officers:John Salvo, Co-President (QI), Vincent Salvo, Co-President, Application Type: QI Change.

OTA America, Inc. (NVO & OFF), 927 Teak Street, Brea, CA 92821, Officers:Dookee Kim, Secretary (QI), Kyoungmi Lee, CEO, Application Type: New NVO & OFF License.

Salmad Ocean Line & Logistics, Inc. (NVO & OFF), 4854 Old National Hwy., Suite 205, College Park, GA 30337, Officer:Amadu K. Jah, President (QI), Application Type: Name Change to Sea Freight Express, Inc.

Watercraft Mix, Inc. (NVO & OFF), 4380 E. 11th Avenue, Hialeah, FL 33013, Officer:Dmitry Poyarkov, President (QI),

Application Type: QI Change.

By the Commission.
Dated: January 4, 2013.
Karen V. Gregory,
Secretary.

[FR Doc. 2013-00273 Filed 1-8-13; 8:45 am]

BILLING CODE 6730-01-P